DEPARTMENT OF HEALTH AND HUMAN SERVICES

Centers for Disease Control and Prevention

Board of Scientific Counselors, Center for Preparedness and Response, (BSC, CPR); Meeting

AGENCY: Centers for Disease Control and Prevention (CDC), Department of Health and Human Services (HHS).

ACTION: Notice of meeting.

SUMMARY: In accordance with the Federal Advisory Committee Act, the CDC announces the following meeting for the Board of Scientific Counselors, Center for Preparedness and Response, (BSC, CPR). This meeting is open to the public, limited only by the space available. The meeting room accommodates up to 60 people. Public participants should pre-register for the meeting (see Supplementary Information for more information). The public is also welcome to listen to the meeting via Adobe Connect. Pre-registration is required by clicking the links below.

WEB ID January 23, 2020 registration: https://adobeconnect.cdc.gov/epvdyo95oxsu/event/registration.html.

WEB ID January 24, 2020 registration: https://adobeconnect.cdc.gov/ek6t1uq3f5zy/event/registration.html.

Dial in number: 1-888-790-2046; Participant code: 5041683.

DATES: The meeting will be held on January 23, 2020, 12:30 p.m. to 5:00 p.m., EST; and January 24, 2020, 8:30 a.m. to 2:30 p.m., EST.

ADDRESSES: Centers for Disease Control and Prevention (CDC), Global Communications Center, Building 19, Auditorium B3, 1600 Clifton Road NE, Atlanta, Georgia 30329-4027.

FOR FURTHER INFORMATION CONTACT: Dometa Ouisley, Office of Science and Public Health Practice, CDC, 1600 Clifton Road NE, Mailstop H21-6, Atlanta, Georgia 30329-4027; Telephone: (404) 639-7450; Fax: (404) 471-8772; Email: OPHPR.BSC.Questions@cdc.gov.

SUPPLEMENTARY INFORMATION:

Purpose: This Board is charged with providing advice and guidance to the Secretary, Department of Health and Human Services (HHS), the Assistant Secretary for Health (ASH), the Director, Centers for Disease Control and Prevention (CDC), and the Director, Center for Preparedness and Response (CPR), concerning strategies and goals for the programs and research within CPR, monitoring the overall strategic direction and focus of the CPR Divisions and Offices, and also may administer and oversee peer review of CPR scientific programs. For additional information about the Board, please visit: https://www.cdc.gov/cpr/bsc/index.htm.

Matters to Be Considered: The two-day agenda will include: Day One: The meeting will cover briefings and BSC deliberation on the following topics: (1) CPR Updates from the Director, (2) CPR Interval Updates from the Division Directors, and (3) the Report from the Biological Agent Containment Working Group (BACWG). Day Two: The meeting will cover briefings and BSC deliberation on the following topics: (1) Current CDC Responses and the Graduated Response Framework, (2) Emergency Preparedness and Response to Address Highest Burden and Need; and (3) Preparedness Updates and CPR Discussion: Liaison Representatives. Agenda items are subject to change as priorities dictate.

Members of the public that wish to attend this meeting in person should pre-register by submitting the following information by email, facsimile, or phone (see Contact Person for More Information) no later than 12:00 noon (EDT) Friday, January 17, 2020:

• Full Name

• Organizational Affiliation

• Complete Mailing Address

• Citizenship

• Phone Number or Email Address

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-26329 Filed 12-5-19; 8:45 am]

BILLING CODE 4163-18-P